DEPARTMENT OF THE INTERIOR

Bureau of Land Management

[NV-952-08-1420-BJ]

Filing of Plats of Survey; Nevada

AGENCY: Bureau of Land Management.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plats of Survey of the following described lands were officially filed at the Nevada State Office, Reno, Nevada, on August 7, 2007.

The plat, in five sheets, representing the dependent resurvey of portions of the south and east boundaries and a portion of the subdivisional lines, and the subdivision of certain sections, Township 17 South, Range 50 East, Mount Diablo Meridian, Nevada, executed under Group No. 832, was accepted August 2, 2007.

The plat representing the dependent resurvey of a portion of the south boundary and a portion of the subdivisional lines, and the subdivision of sections 31 and 32, Township 17 South, Range 51 East, Mount Diablo Meridian, Nevada, executed under Group No. 832, was accepted August 2, 2007.

These surveys were executed to meet certain administrative needs of the Fish and Wildlife Service.

2. The Plats of Survey of the following described lands were officially filed at the Nevada State Office, Reno, Nevada, on August 24, 2007.

The plat representing the dependent resurvey of a portion of the subdivisional lines and a portion of the subdivision-of-section lines of section 25, the subdivision of sections 14 and 24 and the further subdivision of section 25, Township 11 North, Range 20 East, Mount Diablo Meridian, Nevada, executed under Group No. 816, was accepted August 23, 2007.

The plat, in three sheets, representing the dependent resurvey of the Second Standard Parallel North, through portions of Ranges 21 and 22 East, a portion of the east boundary and a portion of the subdivisional lines, and the subdivision of certain sections, Township 10 North, Range 22 East, Mount Diablo Meridian, Nevada, executed under Group No. 816, was accepted August 23, 2007.

These surveys were executed to meet certain administrative needs of the Bureau of Indian Affairs.

3. The Plat of Survey of the following described lands was officially filed at the Nevada State Office, Reno, Nevada, on August 30, 2007.

The plat representing the dependent resurvey of a portion of the west boundary, a portion of the subdivisional lines and a portion of the subdivision-of-section lines of sections 6 and 8, the subdivision of sections 7, 16, 17 and 18, the further subdivision of sections 5, 6, 8 and 9, and metes-and-bounds surveys in sections 6, 7 and 18, Township 12 North, Range 29 East, Mount Diablo Meridian, Nevada, executed under Group No. 827, was accepted August 28, 2007. This survey was executed to meet certain administrative needs of the Bureau of Indian Affairs.

4. The above-listed surveys are now the basic record for describing the lands for all authorized purposes. These surveys have been placed in the open files in the BLM Nevada State Office and are available to the public as a matter of information. Copies of the surveys and related field notes may be furnished to the public upon payment of the appropriate fees.

Dated: October 3, 2007.
David D. Morlan,
Chief Cadastral Surveyor, Nevada.

[FR Doc. E7-20292 Filed 10-15-07; 8:45 am]

BILLING CODE 4310-HC-P